DEPARTMENT OF JUSTICE

Antitrust Division

Notice Pursuant to the National Cooperative Research and Production Act of 1993—Open Platform for NFV Project, Inc.

Notice is hereby given that, on November 27, 2015, pursuant to Section 6(a) of the National Cooperative Research and Production Act of 1993, 15 U.S.C. 4301 et seq. (“the Act”), Open Platform for NFV Project, Inc. (“Open Platform for NFV Project”) has filed written notifications simultaneously with the Attorney General and the Federal Trade Commission disclosing changes in its membership. The notifications were filed for the purpose of extending the Act's provisions limiting the recovery of antitrust plaintiffs to actual damages under specified circumstances. Specifically, KDDI R&D Laboratories, Inc., Saitama, JAPAN, has been added as a party to this venture.

Also, Alcatel-Lucent, Murray Hill, NJ; Citrix, Santa Clara, CA; Contextream, Inc., Mountain View, CA; Coriant Gmbh, Munich, GERMANY; Cyan, Inc., Petaluma, CA; Metaswitch Networks, Ltd., Enfield, UNITED KINGDOM; Ooredoo Group, Doha, QATAR; and Overture Networks, Inc., Morrisville, NC, have withdrawn as parties to this venture.

No other changes have been made in either the membership or planned activity of the group research project. Membership in this group research project remains open, and Open Platform for NFV Project intends to file additional written notifications disclosing all changes in membership.

On October 17, 2014, Open Platform for NFV Project filed its original notification pursuant to Section 6(a) of the Act. The Department of Justice published a notice in the Federal Register pursuant to Section 6(b) of the Act on November 14, 2014 (79 FR 68301).

The last notification was filed with the Department on September 10, 2015. A notice was published in the Federal Register pursuant to Section 6(b) of the Act on September 29, 2015 (80 FR 58505).

Patricia A. Brink,
Director of Civil Enforcement, Antitrust Division.

[FR Doc. 2015-32343 Filed 12-22-15; 8:45 am]

BILLING CODE P